DEPARTMENT OF AGRICULTURE

Forest Service

Upper Desolation Vegetation Recovery Projects, Umatilla National Forest, Grant County, OR

AGENCY: Forest Service, USDA.

ACTION: Cancellation notice.

SUMMARY: On February 10, 2000, a Notice of Intent (NOI) to prepare an environmental impact statement for the Upper Desolation Vegetation Recovery Projects, was published in the Federal Register (65 FR 6582). Since the project proposed action has been postponed, and conditions on the ground related to fire salvage harvest have changed, the 2000 NOI is hereby rescinded.

FOR FURTHER INFORMATION CONTACT: Janel Lacey, District Planner, North Fork John Day Ranger District, P.O. Box 158, Ukiah, Oregon 97880, telephone 541-427-3231.

Dated: February 11, 2002.
Jeff Blackwood,
Forest Supervisor.

[FR Doc. 02-4769 Filed 2-27-02; 8:45 am]

BILLING CODE 3410-11-M